FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 3, 2015.

A. Federal Reserve Bank of Chicago (Colette A. Fried, Assistant Vice President) 230 South LaSalle Street, Chicago, Illinois 60690-1414:

1. David B. Pogrund, Chicago, Illinois, and Randy L. Green, Highland Park, Illinois, as co-trustees of 153 trusts for family members of the late Sanford Takiff, and acting in concert with the Takiff Family Foundation, Glencoe, Illinois, an Illinois not-for-profit corporation, controlled by its directors, Sherri Zirlin, Glencoe, Illinois; Elizabeth Scheinfeld, Glencoe, Illinois; Jill Hirsh, Glencoe, Illinois; and Bobette Takiff, Glencoe, Illinois; and Sherri Zirlin, individually; Elizabeth Scheinfeld, individually; and Jill Hirsh, individually, to retain all the outstanding voting stock of Bank of Highland Park Financial Corp., Highland Park, Illinois, and thereby indirectly control First Bank of Highland Park, Highland Park, Illinois.

B. Federal Reserve Bank of St. Louis (Yvonne Sparks, Community Development Officer) P.O. Box 442, St. Louis, Missouri 63166-2034:

1. HopFed Bancorp 2015 Employee Stock Ownership Plan with John E. Peck and Billy C. Duvall as trustees, all of Hopkinsville, Kentucky; to acquire voting shares of HopFed Bancorp, Inc., Hopkinsville, Kentucky and thereby indirectly acquire share of Heritage Bank, USA, Inc., Hopkinsville, Kentucky.

2. Wanda L. Rednour, individually, and as trustee of the Bypass Trust UWO John E. Rednour; to retain voting shares of Perry County Bancorp, Inc., and thereby indirectly retain voting shares of Du Quoin State Bank, all of Du Quoin, Illinois.

Board of Governors of the Federal Reserve System, February 10, 2015.
Michael J. Lewandowski,
Associate Secretary of the Board.

[FR Doc. 2015-03083 Filed 2-13-15; 8:45 am]

BILLING CODE 6210-01-P